DEPARTMENT OF COMMERCE

International Trade Administration

[A-570-092]

Mattresses From the People's Republic of China: Rescission of 2020 Antidumping Duty New Shipper Review

AGENCY: Enforcement and Compliance, International Trade Administration, Department of Commerce.

SUMMARY: The Department of Commerce (Commerce) finds that the sale made by Shanghai Sunbeauty Trading Co., Ltd. (Sunbeauty) is a non-bona fide sale. Therefore, we are rescinding this new shipper review (NSR).

DATES: Applicable June 11, 2021.

FOR FURTHER INFORMATION CONTACT: Jesse Montoya, AD/CVD Operations, Office IV, Enforcement and Compliance, International Trade Administration, Department of Commerce, 1401 Constitution Avenue NW, Washington, DC 20230; telephone: (202) 482-8211.

SUPPLEMENTARY INFORMATION:

Background

Commerce published its Preliminary Results in this NSR on March 1, 2021.¹ Subsequently, Sunbeauty filed a case brief on March 31, 2021 ² and Brooklyn Bedding, Corsicana Mattress Company, Elite Comfort Solutions, FXI, Inc., Innocor, Inc., Kolcraft Enterprises, Inc., Leggett & Platt, Incorporated, the International Brotherhood of Teamsters, and United Steel, Paper and Forestry, Rubber, Manufacturing, Energy, Allied Industrial and Service Workers International Union, AFL-CIO (the petitioners) filed a rebuttal brief on April 9, 2021.³ No party requested a hearing in this matter.

¹ See Mattresses from the People's Republic of China: Preliminary Intent To Rescind the 2020 Antidumping Duty New Shipper Review, 86 FR 11924 (March 1, 2021) (Preliminary Results); see also Memorandum, “Preliminary Bona Fide Sales Analysis for Shanghai Sunbeauty Trading Co., Ltd.,” dated February 18, 2021.

² See Sunbeauty's Letter, “Sunbeauty's Case Brief,” dated March 31, 2021.

³ See Petitioners' Letter, “Mattress Petitioners' Rebuttal Brief,” dated April 9, 2021.

Scope of the Order

The merchandise covered by the order are all types of youth and adult mattresses from China. The products subject to the order are currently properly classifiable under Harmonized Tariff Schedule for the United States (HTSUS) subheadings: 9404.21.0010, 9404.21.0013, 9404.29.1005, 9404.29.1013, 9404.29.9085, and 9404.29.9087. Products subject to this order may also enter under HTSUS subheadings: 9404.21.0095, 9404.29.1095, 9404.29.9095, 9401.40.0000, and 9401.90.5081. Although the HTSUS subheadings are provided for convenience and customs purposes, the written description of the merchandise subject to this order is dispositive. For a complete description of the scope of the order, see the Issues and Decision Memorandum.⁴

⁴ See Memorandum, “Issues and Decision Memorandum for the Rescission of the 2020 Antidumping Duty New Shipper Review of Mattresses from the People's Republic of China,” issued concurrently with, and hereby adopted by, this notice (Issues and Decision Memorandum).

Analysis of Comments Received

The issue discussed in the case and rebuttal briefs is addressed in the Issues and Decision Memorandum.⁵ The Issues and Decision Memorandum is a public document and is on file via Enforcement and Compliance's Antidumping and Countervailing Duty Centralized Electronic Service System (ACCESS). ACCESS is available to registered users at https://access.trade.gov. In addition, a complete version of the Issues and Decision Memorandum can be accessed directly at http://enforcement.trade.gov/frn/. The sole issue raised in the case brief is listed in the appendix to this notice.

⁵ Id.

Rescission of the Antidumping New Shipper Review

For the reasons explained in the Issues and Decision Memorandum, Commerce continues to find that the sale made by Sunbeauty is not a bona fide sale for purposes of the antidumping duty law. Commerce reached this conclusion based on the totality of the evidence, including, among other things, the sales price and quantity. Because Sunbeauty made no bona fide sales during the period of review (POR), we are rescinding the NSR.

Assessment Rates

As Commerce is rescinding this NSR, Sunbeauty's status with respect to the antidumping duty order on mattresses from the People's Republic of China (China) remains unchanged. Sunbeauty remains part of the China-wide entity and, accordingly, entries of its subject merchandise into the United States during the POR will be assessed at the China-wide rate.

Cash Deposit Requirements

Because we are rescinding this NSR, we are not determining a company-specific cash deposit rate for Sunbeauty. Sunbeauty continues to be part of the China-wide entity and is, therefore, subject to the China-wide entity cash deposit rate of 1,731.75 percent.⁶

⁶ See Mattresses from the People's Republic of China: Antidumping Duty Order, 84 FR 68395 (December 16, 2019).

Administrative Protective Order

This notice also serves as a reminder to parties subject to an administrative protective order (APO) of their responsibility concerning the return or destruction of proprietary information disclosed under an APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this rescission in accordance with sections 751(a)(2)(B) and 777(i)(1) of the Act.

Dated: June 7, 2021.
Christian Marsh,
Acting Assistant Secretary for Enforcement and Compliance.

Appendix

List of Sections in the Issues and Decision Memorandum

I. Summary

II. Background

III. Scope of the Order

IV. Discussion of the Issues

Comment: Whether Sunbeauty's Sale is Bona Fide

V. Recommendation

[FR Doc. 2021-12315 Filed 6-10-21; 8:45 am]

BILLING CODE 3510-DS-P